DEPARTMENT OF LABOR

Employment and Training Administration

[TA-W-65,793]

Home Fashion International, Taylorsville, NC; Notice of Termination of Investigation

Pursuant to Section 221 of the Trade Act of 1974, as amended, an investigation was initiated on April 14, 2009, in response to a petition filed on behalf of workers of Home Fashion International, Taylorsville, North Carolina.

The petitioners have requested that the petition be withdrawn. Consequently, the investigation has been terminated.

Signed at Washington, DC, this 7th day of May 2009.
Richard Church,
Certifying Officer, Division of Trade Adjustment Assistance.

[FR Doc. E9-13453 Filed 6-8-09; 8:45 am]

BILLING CODE 4510-FN-P